DEPARTMENT OF HOMELAND SECURITY

Coast Guard

33 CFR Part 100

[Docket Number USCG-2015-0427]

RIN 1625-AA08

Special Local Regulation; Mavericks Surf Competition, Half Moon Bay, CA

AGENCY: Coast Guard, DHS.

ACTION: Final rule.

SUMMARY: The Coast Guard is revising a special local regulation in the navigable waters of Half Moon Bay, CA, near Pillar Point in support of the Mavericks Surf Competition, an annual invitational surf competition held at the Mavericks Break. This revision is necessary to improve the regulation by making it clearer and to have it better reflect the natural conditions that must be met for this surf competition to take place. This regulation is necessary to provide for the safety of life on the navigable waters immediately prior to, during, and immediately after the surfing competition, which is held only one day between November 1 of each year and March 31 of the following year. This revision temporarily restricts vessel traffic in the vicinity of Pillar Point and prohibits vessels and persons not participating in or directly supporting the surfing event from entering the dedicated surfing area and a designated no-entry area.

DATES: This rule is effective December 18, 2017.

ADDRESSES: To view documents mentioned in this preamble as being available in the docket, go to http://www.regulations.gov, type the docket number USCG-2015-0427 in the “SEARCH” box and click “SEARCH.” Click on Open Docket Folder on the line associated with this rule.

FOR FURTHER INFORMATION CONTACT: If you have questions about this rulemaking, call or email Lieutenant Junior Grade Christina Ramirez, U.S. Coast Guard Sector San Francisco; telephone (415) 399-2001, email at D11-PF-MarineEvents@uscg.mil.

SUPPLEMENTARY INFORMATION:

I. Table of Abbreviations

CFR Code of Federal Regulations

DHS Department of Homeland Security

FR Federal Register

NPRM Notice of proposed rulemaking

§ Section

COTP Captain of the Port

PATCOM Patrol Commander

OCMI Officer in Charge of Marine Inspections

NRPM Notice of Proposed Rulemaking

U.S.C. United States Code

II. Background Information and Regulatory History

The Mavericks Surf Competition has grown in popularity within the past several years. Due to the inherent dangers of the competition and the disruption to the normal uses of the waterways in the vicinity of Pillar Point, the Coast Guard issues a Marine Event Permit to the event sponsor. Following the collapse of the Cliffside viewing area in 2011, the Coast Guard became concerned that the loss of shore-side viewing area would result in a larger than expected number of spectator vessels in the vicinity of the event.

This final rule formalizes the scheme employed during the 2013 and 2014 competitions, which proved to be an effective means of separating competitors from spectators. The two zones and associated regulations contained in this final rule are intended to ensure the safety of competitors from spectator vessels, and enhances the safety of spectator vessels by creating a designated area in which the Coast Guard may direct the movement of such vessels. Because of the dangers posed by the surf conditions during the Mavericks Surf Competition, the special local regulation is necessary to provide for the safety of event participants, spectators, and other vessels transiting the event area. For the safety concerns noted, it is in the public interest to have these regulations in effect during the event.

On October 15, 2014, the Coast Guard published an interim rule and request for comments in the Federal Register (79 FR 61762) establishing the special local regulation 33 CFR 100.1106. We received no comments during the comment period on the interim rule. Although the event was not held during the 2014-2015 season, the planning process proved to be vital in identifying updates to the rule as proposed here. This final rule finalizes the Interim Rule updates proposed in the Notice of Proposed Rule Making.

On November 3, 2015 and November 23, 2016, we promulgated temporary final rules for the Mavericks Surf Competition, which was most recently held on February 12, 2016, and subsequently not held in the 2016-2017 season after the sponsoring organization filed for bankruptcy. The temporary rules were needed to incorporate the updates noted in this Final Rule which include: Requiring buoy position maintenance by the event sponsors, expanding the definition of “spectator vessel” to include human powered craft and expanding the definition of “support vessel” to include jet skis. The Coast Guard determined a NPRM was necessary to afford the public the opportunity to comment on the aforementioned updates to the Interim Rule and because the Mavericks Surf Competition would occur before NPRM process was complete. Therefore to meet the event season deadline, a temporary final rule was published in lieu of a final rule. Past competitions have demonstrated the importance of restricting access to the competition area to only vessels in direct support of the competitors. In the Coast Guard's assessment, that temporary final rule provided an effective scheme to incorporate the Interim Rule updates and ensure the safety of life during the Mavericks Surf Competition.

On January 10, 2017, we published an NPRM titled Special Local Regulation; Mavericks Surf Competition, Half Moon Bay, CA (82 FR 2930). During the comment period which ended on February 9, 2017, three comments were received.

We are implementing the following changes to the Interim Rule based on comments received as well as lessons learned during the multi-agency planning process. The name of this event has changed over the years based on the sponsoring organization. The Coast Guard is promulgating this rule using the event name “Mavericks Surf Competition” to remove any affiliation with past or future sponsors and to keep the name of the event generic and applicable to any future sponsoring organizations. In addition to initially placing the buoys to outline Zones 1 and 2, this rule expands the event sponsor's designation of responsibility, outlined in the Interim Rule, to include buoy position maintenance throughout the course of the event. The definition of “support vessels” has been updated to specifically include jet skis and to clarify that they must be pre-designated and approved to serve as such for this event by the Officer in Charge of Marine Inspections (OCMI) prior to the competition. Finally, the definition of “spectator vessel” was expanded to specifically include human-powered craft.

III. Legal Authority and Need for Rule

Under 33 CFR 100.35, the Coast Guard District Commander has authority to promulgate certain special local regulations deemed necessary to ensure the safety of life on the navigable waters immediately before, during, and immediately after an approved regatta or marine parade. The Commander of Coast Guard District 11 has delegated to the Captain of the Port (COTP) San Francisco the responsibility of issuing such regulations.

The Mavericks Surf Competition is a one-day “Big Wave” surfing competition between big wave surfers specifically invited to participate by the event sponsor. The competition only occurs when 15-20 foot waves are sustained for over 24 hours and are combined with mild easterly winds of no more than 5-10 knots. The rock and reef ridges that make up the sea floor of the Pillar Point area, combined with optimal weather conditions, create the large waves for which Mavericks is known. Due to the hazardous waters surrounding Pillar Point at the time of the surfing competition, the Coast Guard is modifying and finalizing the interim rule which establishes a special local regulation in the vicinity of Pillar Point that restricts navigation in the area of the surf competition and in neighboring hazardous areas. This final rule is intended to ensure the safety of competitors by delineating a specific competition area, and to provide for the safety of spectators by imposing operating restrictions on those vessels.

IV. Discussion of Comments, Changes, and the Rule

As noted above, the Coast Guard received three respondent comments, noting several concerns, to the NPRM published on January 10, 2017. One comment recommends a more stringent specificity of swell conditions on the day of the event to promote the safe operation of vessels in the area. The environmental parameters outlined in this regulation are determining factors which are necessary precursors to optimal conditions for holding the big wave surfing event; conditions which typically are not optimal for vessel operations. In order to mitigate the risk to safe operation of vessels on the day of the surfing event, the Coast Guard promulgated the Interim Rule which defines an operating area for spectator vessels. The operating area provides an area for spectator vessels that is minimally influenced by the breaking surf. The Coast Guard determined that, the introduction of specific swell periodicity as a Coast Guard required condition to hold the competition would unnecessarily limit favorable days in which the surfing event could take place without further mitigating the risk to vessel operations on the day of the event.

One comment notes the economic determination in the NPRM to be erroneous, as the rule would have a significant economic impact on a substantial number of small entities. The Coast Guard disagrees with this comment. The amendments within this rule do not unduly restrict spectator vessel traffic within Zone 2, the spectator viewing area. In contrast, the Coast Guard aims to facilitate the safe viewing of this surf competition by establishing and assigning maintenance responsibility of a clearly delineated region for spectators to safely maneuver while viewing the competition.

One comment recommends defining specific parameters that must be met by support vessels. The Coast Guard finds that mandating specific vessel parameters for “supporting vessels” unduly limits the event sponsor from considering all available assets capable of providing support to the event. Under the current proposal, all vessels proposed by the sponsor as “support vessels” must be vetted and approved for operation, in their capacity, as a “support vessel” prior to the day of the event. The vetting and approval of “support vessels” is conducted as a necessary precursor to the issuance of the annual Marine Event Permit. In this process, it is incumbent upon the event sponsor to propose only vessels necessary and capable of safely providing direct support to event competitors. Each proposed vessel is thoroughly evaluated by the OCMI and assessed in regards to the Coast Guard's ability to safely render assistance if needed on the day of the event. Proposed “support vessels” whose maneuverability, crew manning, or scope of support is found to be insufficient to safely operate within Zone 1, will be limited in the range of their operation in support of the event or denied approval to serve as a supporting vessel entirely, as stipulated in the documentation associated with the annual Marine Event Permit issued to the event sponsor.

One comment argued that the definition of “spectator vessel” was too vague. The Coast Guard finds that the definition of a “spectator vessel” as “any vessel or person, including human-powered craft, which is not designated by the sponsor as a support vessel” serves to differentiate between conspicuously marked “support vessels” which have previously been vetted and approved by the OCMI as part of the Marine Event Permit approval to provide direct support to the competitors, and all other vessels in the area on the day of the event.

No changes were made to the rule based upon the received comments; however the Coast Guard recognizes the importance of imposing appropriate controls on vessels attempting to gain access to the area encompassed by Zone 1 on the day of the competition.

The Coast Guard is finalizing the regulations governing the Mavericks Surf Competition. The Mavericks Surf Competition will take place on a day that presents favorable surf conditions between November 1 of each year and March 31 of the following year, from 6 a.m. until 6 p.m. The Mavericks Surf Competition can only occur when 15-20 foot waves are sustained for over 24 hours and are combined with mild easterly winds of no more than 5-10 knots. Unpredictable weather patterns and the event's narrow operating window limit the Coast Guard's ability to notify the public of the event. The Coast Guard would issue notice of the event as soon as practicable, but no later than 24 hours before Competition day via the Broadcast Notice to Mariners and issue a written Boating Public Safety Notice at least 24 hours in advance of Competition day. Also, the zones that are established by this final rule will be prominently marked by at least 8 buoys throughout the course of the event.

The Mavericks Surf Competition will occur in the navigable waters of Half Moon Bay, CA, in the vicinity of Pillar Point as depicted in National Oceanic and Atmospheric Administration (NOAA) Chart 18682. The Coast Guard will enforce a regulated area defined by an arc extending 1,000 yards from Sail Rock (37°29′34″ N., 122°30′02″ W.) excluding the waters within Pillar Point Harbor. All restrictions apply only between 6 a.m. and 6 p.m. on the day of the actual competition.

The effect of this regulation is to restrict navigation in the vicinity of Pillar Point during the Mavericks Surf Competition. During the enforcement period, the Coast Guard will direct the movement and access of all vessels within the regulated area. The regulated area will be divided into two zones. Zone 1 is designated as the competition area, and the movement of vessels within Zone 2 is controlled by the Patrol Commander (PATCOM).

This regulation is needed to keep spectators and vessels a safe distance away from the event participants and the hazardous waters surrounding Pillar Point. Past competitions have demonstrated the importance of restricting access to the competition area to only vessels in direct support of the competitors. Failure to comply with the lawful directions of the Coast Guard could result in additional vessel movement restrictions, citation, or both.

V. Regulatory Analyses

We developed this rule after considering numerous statutes and Executive orders related to rulemaking. Below we summarize our analyses based on a number of these statutes and Executive orders, and we discuss First Amendment rights of protestors.

A. Regulatory Planning and Review

Executive Orders 12866 (“Regulatory Planning and Review”) and 13563 (“Improving Regulation and Regulatory Review”) direct agencies to assess the costs and benefits of available regulatory alternatives and, if regulation is necessary, to select regulatory approaches that maximize net benefits (including potential economic, environmental, public health and safety effects, disruptive impacts, and equity). Executive Order 13563 emphasizes the importance of quantifying both costs and benefits, of reducing costs, of harmonizing rules, and of promoting flexibility. Executive Order 13771 (“Reducing Regulation and Controlling Regulatory Costs”), directs agencies to reduce regulation and control regulatory costs and provides that “for every one new regulation issued, at least two prior regulations be identified for elimination, and that the cost of planned regulations be prudently managed and controlled through a budgeting process.”

The Office of Management and Budget (OMB) has not designated this rule a significant regulatory action under section 3(f) of Executive Order 12866. Accordingly, OMB has not reviewed it. As this rule is not a significant regulatory action, this rule is exempt from the requirements of Executive Order 13771. See OMB's memorandum “Guidance Implementing Executive Order 13771, titled `Reducing Regulation and Controlling Regulatory Costs' ” (April 5, 2017).

B. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard did not receive any comments from the Small Business Administration on the Interim rule published on October 15, 2014. The Coast Guard certifies under 5 U.S.C. 605(b) that this rule would not have a significant economic impact on a substantial number of small entities.

Under section 213(a) of the Small Business Regulatory Enforcement Fairness Act of 1996 (Pub. L. 104-121), we want to assist small entities in understanding this rule. If the rule would affect your small business, organization, or governmental jurisdiction and you have questions concerning its provisions or options for compliance, please contact the person listed in the FOR FURTHER INFORMATION CONTACT section.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

C. Collection of Information

This rule will not call for a new collection of information under the Paperwork Reduction Act of 1995 (44 U.S.C. 3501-3520).

D. Federalism and Indian Tribal Governments

A rule has implications for federalism under Executive Order 13132, Federalism, if it has a substantial direct effect on the States, on the relationship between the national government and the States, or on the distribution of power and responsibilities among the various levels of government. We have analyzed this rule under that Order and have determined that it is consistent with the fundamental federalism principles and preemption requirements described in Executive Order 13132.

Also, this rule does not have tribal implications under Executive Order 13175, Consultation and Coordination with Indian Tribal Governments, because it does not have a substantial direct effect on one or more Indian tribes, on the relationship between the Federal Government and Indian tribes, or on the distribution of power and responsibilities between the Federal Government and Indian tribes. If you believe this rule has implications for federalism or Indian tribes, please contact the person listed in the FOR FURTHER INFORMATION CONTACT section.

E. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule would not result in such an expenditure, we do discuss the effects of this rule elsewhere in this preamble.

F. Environment

We have analyzed this rule under Department of Homeland Security Management Directive 023-01 and Commandant Instruction M16475.lD, which guide the Coast Guard in complying with the National Environmental Policy Act of 1969 (42 U.S.C. 4321-4370f), and have made a preliminary determination that this action is one of a category of actions that do not individually or cumulatively have a significant effect on the human environment. This rule involves a regulated area of limited size and duration. Normally such actions are categorically excluded from further review under paragraph 34(h) of Figure 2-1 of Commandant Instruction M16475.lD. A Record of Environmental Consideration is available in the docket for this rulemaking. We seek any comments or information that may lead to the discovery of a significant environmental impact from this rule.

G. Protest Activities

The Coast Guard respects the First Amendment rights of protesters. Protesters are asked to contact the person listed in the FOR FURTHER INFORMATION CONTACT section to coordinate protest activities so that your message can be received without jeopardizing the safety or security of people, places, or vessels.

List of Subjects in 33 CFR Part 100

Marine safety, Navigation (water), Reporting and recordkeeping requirements, and Waterways.

For the reasons discussed in the preamble, the Coast Guard amends 33 CFR part 100 as follows:

PART 100—REGATTAS AND MARINE PARADES

1. The authority citation for part 100 is revised to read as follows:

Authority: 33 U.S.C. 1233; 33 CFR 1.05-1.

2. Revise § 100.1106 to read as follows:

§ 100.1106 Special Local Regulation; Mavericks Surf Competition.

(a) Location. This special local regulation establishes a regulated area on the waters of Half Moon Bay, located in the vicinity of Pillar Point, excluding the waters within Pillar Point Harbor. This regulated area is defined in paragraph (c) of this section.

(b) Enforcement period. This section will be enforced between 6 a.m. and 6 p.m. on Competition day, which if defined wave and wind conditions are met, will occur for one day between November 1 of each year and March 31 of the following year. Notice of the specific enforcement date of this section will be announced via Broadcast Notice to Mariners and issued in writing by the Coast Guard in a Boating Public Safety Notice at least 24 hours in advance of Competition day.

(c) Definitions. As used in this section—

Competition day means the one day between November 1 of each year and March 31 of the following year that Mavericks Surf Competition will be held. The Mavericks Surf Competition will only be held if 15 to 20 foot waves are sustained for over 24 hours and are combined with mild easterly winds of no more than 5 to10 knots.

Competitor means a surfer enrolled in the Maverick's Surf Competition.

Patrol Commander or PATCOM means a Coast Guard Patrol Commander, including a Coast Guard coxswain, petty officer, or other officer, or a Federal, State, or local officer designated by the Captain of the Port San Francisco (COTP), to assist in the enforcement of the special local regulation.

Regulated area means the area in which the Maverick's Surf Competition will take place. This area is bounded by an arc extending 1000 yards from Sail Rock (37°29′34″ N., 122°30′02″ W.) excluding the waters within Pillar Point Harbor. All coordinates are North American Datum 1983. Within the regulated area, at least two zones will be established and marked by buoys on the day of the competition. Due to the dynamic and changing nature of the surf, the exact size and location of the zones will not be made public until the competition day. The zones will be prominently marked by at least 8 buoys, placed and maintained in place throughout the course of the event by the event sponsor in a pattern approved by the PATCOM. In addition, the USCG will notify the public of the zone locations via Broadcast Notice to Mariners on the day of the event.

Spectator vessel means any vessel or person, including human-powered craft, which is not designated by the sponsor as a support vessel.

Support vessel means a vessel, including jet skis, which is designated and conspicuously marked by the sponsor to provide direct support to the competitors. Support vessels must be pre-designated and approved to serve as such for this event by the OCMI prior to the competition.

Zone 1 means the competition area within the regulated area. Zone 1 will generally be located to the northwest of a line drawn between Sail Rock (37°29′34″ N., 122°30′02″ W.) and Pillar Point Entrance Lighted Gong Buoy 1 (37°29′10.410″ N., 122°30′21.904″ W.).

Zone 2 means the area within the regulated area where the Coast Guard may direct the movement of all vessels, including restricting vessels from this area. Zone 2 will generally be located to the southeast of a line drawn between Sail Rock (37°29′34″ N., 122°30′02″ W.) and Pillar Point Entrance Lighted Gong Buoy 1 (37°29′10.410″ N., 122°30′21.904″ W.).

(d) Special Local Regulations. The following regulations apply between 6 a.m. and 6 p.m. on the competition day.

(1) Only support vessels may be authorized by the Patrol Commander (PATCOM) to enter Zone 1 during the competition.

(2) Entering the water in Zone 1 by any person other than the competitors is prohibited. Competitors may enter the water in Zone 1 from authorized support vessels only.

(3) Spectator vessels and support vessels within Zone 2 must maneuver as directed by PATCOM. Given the changing nature of the surf in the vicinity of the competition, PATCOM may close Zone 2 to all vessels due to hazardous conditions. Due to weather and sea conditions, the Captain of the Port may deny access to Zone 2 and the remainder of the regulated area to all vessels other than competitors and support vessels on the day of the event

(4) Entering the water in Zone 2 by any person is prohibited.

(5) Rafting and anchoring of vessels are prohibited within the regulated area.

(6) Only vessels authorized by the PATCOM will be permitted to tow other watercraft within the regulated area.

(7) Spectator and support vessels in Zones 1 and 2 must operate at speeds which will create minimum wake, in general, 7 miles per hour or less.

(8) When hailed or signaled by the PATCOM by a succession of sharp, short signals by whistle or horn, the hailed vessel must come to an immediate stop and comply with the lawful directions issued. Failure to comply with a lawful direction may result in additional operating restrictions, citation for failure to comply, or both.

(9) During the events, vessel operators may contact the PATCOM on VHF-FM channel 23A.

Dated: October 16, 2017.
Patrick S. Nelson,
Captain, U.S. Coast Guard, Alternate Captain of the Port San Francisco.

[FR Doc. 2017-24840 Filed 11-15-17; 8:45 am]

BILLING CODE 9110-04-P